DEPARTMENT OF LABOR

Employment and Training Administration

[TA-W-59,637]

America's Finance Organization; A Subdivision of Lenovo USA; Research Triangle Park, NC; Dismissal of Application for Reconsideration

Pursuant to 29 CFR 90.18(C) an application for administrative reconsideration was filed with the Director of the Division of Trade Adjustment Assistance for workers at Americas Finance Organization, A Subdivision of Lenovo USA, Research Triangle Park, North Carolina. The application did not contain new information supporting a conclusion that the determination was erroneous, and also did not provide a justification for reconsideration of the determination that was based on either mistaken facts or a misinterpretation of facts or of the law. Therefore, dismissal of the application was issued.

TA-W-59,637; Americas Finance Organization, A Subdivision of Lenovo USA, Research Triangle Park, North Carolina, (September 15, 2006).

Signed at Washington, DC, this 18th day of September 2006.
Linda G. Poole,
Certifying Officer, Division of Trade Adjustment Assistance.

[FR Doc. E6-15744 Filed 9-25-06; 8:45 am]

BILLING CODE 4510-30-P